NUCLEAR WASTE TECHNICAL REVIEW BOARD

Board Meeting: April 13, 2001—Arlington, VA

Discussion of using multiple lines of evidence to increase confidence in the performance assessments of the proposed Yucca Mountain repository for high-level radioactive waste and spent nuclear fuel; what approaches might be taken to develop those multiple lines of evidence; and the degree to which those lines of evidence might be independent of performance assessment.

Pursuant to its authority under section 5051 of Public Law 100-203, Nuclear Waste Policy Amendments Act of 1987, on Friday, April 13, 2001, an ad hoc panel of the Nuclear Waste Technical Review Board (Board) will meet in Arlington, VA, to discuss the ways in which multiple lines of evidence might be used to increase confidence in the performance assessments of the proposed Yucca Mountain repository for high-level radioactive waste and spent nuclear fuel. The meeting is open to the public. An opportunity for public comment will be provided. The Board is charged by Congress with reviewing the technical and scientific validity of activities undertaken by the Department of Energy (DOE) related to civilian radioactive waste management.

The meeting will be held at the Arlington Hilton Hotel; 950 North Stafford Street; Arlington, VA 22203. The telephone number for the hotel is 703-528-6000; the fax number is 703-812-5127. The meeting will begin at 8:30 a.m.; it is scheduled to end at 3:30 p.m.

The meeting will begin with a presentation by a representative of the Office of Civilian Radioactive Waste Management in DOE on work already completed or under way to develop multiple lines of evidence. Members of the Board's ad hoc panel, several experts from DOE, and three outside consultants retained by the Board will then make short presentations of their views on how multiple line of evidence might be developed and used to increase confidence in the performance assessments of the proposed Yucca Mountain repository. The rest of the meeting will be devoted to informal discussion of various issues associated with developing multiple lines of evidence.

A block or rooms has been reserved at the Arlington Hilton Hotel. When making a reservation, please state that you are attending the Nuclear Waste Technical Review Board meeting. For more information, contact the NWTRB, Dr. Daniel Metlay, Senior Professional Staff; 2300 Clarendon Boulevard, Suite 1300; Arlington, VA 22201-3367; (tel) 703-235-4473; (fax) 703-235-4495; (e-mail) metlay@nwtrb.gov.

The Nuclear Waste Technical Review Board, created by Congress in the Nuclear Waste Policy Amendments Act of 1987, evaluates the technical and scientific validity of activities undertaken by the Secretary of Energy related to managing the disposal of the nations's spent nuclear fuel and high-level radioactive waste. In the same legislation, Congress directed the DOE to characterize a site at Yucca Mountain, Nevada, to determine its suitability as the location of a potential repository for the permanent disposal of spent nuclear fuel and high-level radioactive waste.

Dated: March 8, 2001.
William D. Barnard,
Executive Director, Nuclear Waste Technical Review Board.

[FR Doc. 01-6128 Filed 3-12-01; 8:45 am]

BILLING CODE 6820-AM-M